DEPARTMENT OF AGRICULTURE

Draft Environmental Assessment for the Kika de la Garza Subtropical Agricultural Research Center Land Transfer

AGENCY: Agricultural Research Service, USDA.

ACTION: Notice of the Draft Environmental Assessment for the Kika de la Garza Subtropical Agricultural Research Center Land Transfer.

SUMMARY: In accordance with the National Environmental Policy Act (NEPA) of 1969, as amended, and the Federal Land Policy and Management Act of 1976 (FLPMA), as amended, the United States Department of Agriculture (USDA) has prepared a Draft Environmental Assessment (EA) for the proposed transfer of approximately 70 acres of land and associated buildings at the Kika de la Garza Subtropical Agricultural Research Center (KSARC) from the USDA Agricultural Research Service (ARS) in Weslaco, Texas, to The Texas A&M University System (TAMUS). The KSARC is divided into two separate properties, with the main research station located at 2413 East Highway 83, Weslaco, Texas 77840 and a research farm located at 2301 South International Boulevard, Weslaco, Texas 77840. This notice is announcing the opening of a 30-day public comment period.

DATES: Comments must be received on or before August 30, 2013.

ADDRESSES: You may submit comments related to the proposed KSARC Land Transfer by any of the following methods: Email: phil.smith@ars.usda.gov, Fax: 979-260-9344. Mail: USDA-ARS-WBSC, 1001 Holleman Drive East, College Station, Texas 77840. Copies of the Draft EA for the KSARC Land Transfer are available for public inspection during normal business hours at the following locations:

• Weslaco Public Library, 525 South Kansas Avenue, Weslaco, Texas 78596

• Larry Ringer Library, 1818 Harvey Mitchell Parkway South, College Station, Texas 77845

FOR FURTHER INFORMATION CONTACT: Phil Smith, Acting Property Team Lead, USDA-ARS-WBSC, 1001 Holleman Drive East, College Station, Texas, 77840; 979-260-9449.

SUPPLEMENTARY INFORMATION: The USDA is proposing to transfer approximately 70 acres of land and facilities at the KSARC from USDA-ARS in Weslaco, Texas, to TAMUS. As a condition of the transfer, TAMUS would commit to using the property for agricultural and natural resources research for a period of 25 years, supporting the strategic goals of USDA and establishing a Beginning Farmers and Ranchers Program at the Property. TAMUS would assume responsibility and maintenance of the constructed facilities and land to be conveyed from USDA. The KSARC has been in operation as a USDA-ARS research facility since 1960, with the mission “to increase food and fiber productivity by developing new technology for safe and efficient agricultural production methods and by conserving natural resources and protecting the environment.” The facility was closed under Public Law (Pub. L.) 112-55, Consolidated and Further Continuing Appropriations Act, 2012 and is currently being utilized in a very limited capacity by researchers from other ARS locations. Under the terms of the Public Law, the Secretary of Agriculture will decide whether to formally transfer the Property from USDA to TAMUS or have USDA retain possession of the Property. If the decision is made to transfer the Property, it will be done with no monetary cost to TAMUS and a Deed Without Warranty will be prepared by the USDA to convey the title/property rights to TAMUS. The Deed Without Warranty would incorporate any use restrictions identified by the NEPA process, as well as the 25-year use restriction for agricultural and natural resources research as required by Section 732 of the Public Law. Two alternatives are analyzed in the Draft EA, the No Action Alternative and the Proposed Action. The draft EA addresses potential impacts of these alternatives on the natural and human environment.

• Alternative 1—No Action. The USDA would retain possession of the approximate 70 acres of land and facilities at the KSARC. The USDA would no longer operate and/or maintain approximately 85-90% of the property and it would likely fall into a state of disrepair. The USDA will continue ongoing research funded by other Locations on the remaining 10-15% of the property.

• Alternative 2—Proposed Action. The USDA would formally transfer approximately 70 acres of land at the KSARC to TAMUS. As a condition of the transfer, TAMUS would commit to using the Property for agricultural and natural resources research for a period of 25 years, supporting the strategic goals of USDA and establishing a Beginning Farmers and Ranchers Program at the Property. TAMUS would assume responsibility and maintenance of the constructed facilities and land to be conveyed from USDA.

In addition, one alternative was considered in the Draft EA but eliminated from detailed study. In this alternative, USDA would retain possession of the land and it would be transferred to the General Services Administration for disposal. Since it cannot reasonably be determined who would ultimately take possession of the property and how it would be utilized, it was not analyzed in detail in the EA. The USDA will use and coordinate the NEPA commenting process to satisfy the public involvement process for Section 106 of the National Historic Preservation Act (16 U.S.C. 470(f) as provided for in 36 CFR 800.2(d)(3)). Following the public comment period, comments will be used to prepare the Final EA. The USDA will respond to each substantive comment by making appropriate revisions to the document or by explaining why a comment did not warrant a change. A Notice of Availability of the Final EA will be published in the Federal Register. All comments, including any personal identifying information included in the comment will become a matter of public record. While you can ask us in your comment to withhold your personal identifying information from public review, we cannot guarantee that we will be able to do so.

Dated: July 23, 2013.
Edward B. Knipling,
Administrator, Agricultural Research Service.

[FR Doc. 2013-18845 Filed 8-2-13; 8:45 am]

BILLING CODE 3410-03-P